DEPARTMENT OF TRANSPORTATION

Transportation Security Administration

Port Security Grant Program; Application Notice Describing the Categories of Interest and Establishing the Closing Date for Receipt of Applications Under the Port Security Grant Program—Round 2

AGENCY: Transportation Security Administration, Department of Transportation.

ACTION: Notice inviting applications for the Port Security Grant Program.

SUMMARY: The purpose of the Port Security Grant Program is to support efforts for port security at critical national seaports in the areas of security assessments and mitigation strategies, enhanced facility and operational security.

The Port Security Grant Program will fund projects in two categories: (1) security assessments and mitigation strategies, and (2) enhanced facility and operational security to include proof-of-concept projects. Transportation Security Administration is coordinating with the Maritime Administration and the U.S. Coast Guard in this effort. Applicants may be submitted by critical national seaports/terminals/vessels (commuter or ferry service) as specified in the Broad Agency Announcement. Authority for this program is contained in the Department of Defense Appropriations Act for FY 2002, Pub. L. 107-117, 115 Stat. 2230 and FY 2002 Supplemental Appropriations Act for Further Recovery From and Response to Terrorist Attacks on the United States, Pub. L. 107-206, 116 State. 820.

DATES: The program announcements and applications for the Port Security Grant Program—Round 2 are expected to be available on or about January 14, 2003. Applicants must be received on or before 2 p.m. EST, February 27, 2003.

ADDRESSES: The Broad Agency Announcement, application and instructions for preparing and submitting an application for the Port Security Grant Program will be available through the Internet at https://www.portsecuritygrants.dottsa.net.

FOR FURTHER INFORMATION CONTACT: Ms. Mary Heying, Transportation Security Administration, Office of Maritime and Land Security, 400—7th Street, SW., TSA-8, Washington, DC 20590, (202) 772-1118, email: Mary.Heying@tsa.dot.gov or, Ms. Tracey Ford, Grants Officer, Maritime Administration, Office of Acquisition, 400—7th Street, SW., Room 7310, Washington, DC 20590; (202) 366-1744, email: Tracey.Ford@marad.dot.gov.

SUPPLEMENTARY INFORMATION: Total anticipated funding available for Port Security Grant Program—Round 2 is $104,093,293. This amount does not include funding for Port Incident Training and Exercises, which will be addressed separate from this program and is not covered by this Announcement. Awards under this program are subject to availability of funds.

Port Security Grant Program—Round 2 Categories

Category 1: Security Assessments and Mitigation Strategies—Award based on proposed security assessments that ascertain vulnerabilities of physical or operational security of a port, multiple terminals, terminal, or vessel (commuter or ferry service) and identify mitigation strategies.

Category 2: Enhanced Facility and Operational Security—Including but not limited to facility/terminal/vessel (commuter or ferry service) access control, physical security, cargo security and passenger security. Consideration will also be given to proof-of-concept projects, which can demonstrate how security would be improved/enhanced, by their implementation.

Dated: January 21, 2003.
J.M. Loy, ADM,
Under Secretary of Transportation for Security.

[FR Doc. 03-1783 Filed 1-24-03; 8:45 am]

BILLING CODE 4110-62-M